LEGAL SERVICES CORPORATION

Sunshine Act Meetings of the Board of Directors

Time and Date: The Legal Services Corporation Board of Directors will meet by telephone on April 13, 2005 at 4:15 p.m. (e.d.t.).

Location: Legal Services Corporation, 3333 K Street, NW., Washington, DC.

Status of Meetings: Closed. A portion of this telephonic meeting of the Board of Directors may be closed to the public. The closing is authorized by the relevant provisions of the Government in the Sunshine Act [5 U.S.C. 552b(c)(10)] and the Legal Services Corporation's corresponding regulation 45 CFR 1622.5(h). A copy of the General Counsel's Certification that the closing is authorized by law will be available upon request.

Matters to be Considered:

Open Session

1. Approval of agenda.

2. Consider and act on whether to authorize an executive session of the Board to address items listed below under Closed Session.

Closed Session

3. Consider and act on the Corporation's appeal of the District Court's Decision in the matter of Velazquez/Dobbins v. LSC.

4. Consider and act on other business.

5. Consider and act on adjournment of meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: April 6, 2005.
Victor M. Fortuno,
Vice President for Legal Affairs, General Counsel & Corporate Secretary.

[FR Doc. 05-7262 Filed 4-6-05; 2:15 pm]

BILLING CODE 7050-01-P